ENVIRONMENTAL PROTECTION AGENCY

[FRL-9073-01-R9]

Revision of Approved State Primacy Program for the State of Nevada

AGENCY: Environmental Protection Agency (EPA).

ACTION: Notice of approval.

SUMMARY: Notice is hereby given that the State of Nevada (State) revised its approved State primacy program under the federal Safe Drinking Water Act (SDWA) by adopting the federal Filter Backwash Recycling Rule. The Environmental Protection Agency (EPA) has determined that the State authorities implementing the program revision are no less stringent than the corresponding Federal regulations and that the State's request for a program revision meets applicable SDWA primacy requirements. Therefore, EPA approves Nevada's revision to its approved State primacy program. However, this revision does not become effective until the public process, describes below in this notice, is completed.

DATES: A request for a public hearing must be received or postmarked before November 8, 2021.

ADDRESSES: Documents relating to this determination are available online at http://ndep.nv.gov/posts. In addition, documents relating to this determination are available by appointment between the hours of 8:30 a.m. and 4:00 p.m., Monday through Friday, except official State or Federal holidays, at the following address: Nevada Department of Environmental Protection, Administration Office, 901 South Stewart Street, Suite 4001, Carson City, NV 89701. Please contact the Bureau of Safe Drinking Water at (775) 687-9521 to schedule an appointment.

FOR FURTHER INFORMATION CONTACT: Samantha Bishop, United States Environmental Protection Agency, Region 9, Drinking Water Section, via telephone at (415) 972-3411 or email address: bishop.samantha@epa.gov.

SUPPLEMENTARY INFORMATION: Background. EPA approved Nevada's initial application for primary enforcement authority (“primacy”) on February 27, 1978 (43 FR 8030). Since initial approval, EPA has approved various revisions to Nevada's primacy program. For the revision covered by this action, EPA published the Filter Backwash Recycling Rule on June 8, 2001 (66 FR 31086). EPA promulgated the Filter Backwash Recyling Rule to improve control of microbial pathogens while minimizing the public health risks of disinfectants and disinfection byproducts by reducing the opportunity for recycle practices to adversely affect the performance of drinking water treatment plants and preventing microbial contaminants from passing through treatment systems and into finished drinking water. EPA has determined that the Filter Backwash Recycling Rule requirements were adopted into the Nevada Administrative Code (NAC), Title 40 Chapter 445A, in a manner that Nevada's regulations are comparable to and no less stringent than the federal requirements. EPA has also determined that Nevada's program revision request meets all of the regulatory requirements for approval, as set forth in 40 CFR 142.12, including an acceptable side-by-side comparison of the Federal requirements to the corresponding State authorities, appropriate additional materials to meet the special primacy requirements of 40 CFR 142.16, an acceptable review of the requirements contained in 40 CFR 142.10 necessary for the State to retain primary enforcement responsibility, and a statement by the Nevada Attorney General certifying that Nevada's laws and regulations carrying out the program revision were duly adopted and are enforceable. The Attorney General's statement also affirms that there are no environmental audit privilege and immunity laws that would impact Nevada's ability to implement or enforce the Nevada laws and regulations pertaining to the program revision. Therefore, EPA approves this revision as part of Nevada's approved State primacy program. The Technical Support Document, which provides EPA's analysis of Nevada's program revision request for this approval, is available by submitting a request to the following email address: R9dw-program@epa.gov. Please note “Technical Support Document” in the subject line of the email.

Public Process. Any interested party may request a public hearing on this determination. A request for a public hearing must be received or postmarked before November 8, 2021 and addressed to the Regional Administrator at the EPA Region 9, via the following email address: R9dw-program@epa.gov. Please note “State Primacy Rule Determination” in the subject line of the email. The Regional Administrator may deny frivolous or insubstantial requests for a hearing. If a substantial request for a public hearing is made before November 8, 2021, EPA Region 9 will hold a public hearing. Any request for a public hearing shall include the following information: 1. The name, address, and telephone number of the individual, organization, or other entity requesting a hearing; 2. A brief statement of the requesting person's interest in the Regional Administrator's determination and a brief statement of the information that the requesting person intends to submit at such hearing; and 3. The signature of the individual making the request, or, if the request is made on behalf of an organization or other entity, the signature of a responsible official of the organization or other entity.

If EPA does not receive a timely and appropriate request for a hearing and the Regional Administrator does not elect to hold a hearing on her own motion, EPA's approval shall become final and effective on November 8, 2021 and no further public notice will be issued.

Authority: Section 1413 of the Safe Drinking Water Act, as amended, 42 U.S.C. 300g-2 (1996), and 40 CFR part 142 of the National Primary Drinking Water Regulations.

Dated: September 28, 2021.
Deborah Jordan,
Acting Regional Administrator, EPA Region 9.

[FR Doc. 2021-21735 Filed 10-6-21; 8:45 am]

BILLING CODE 6560-50-P